DEPARTMENT OF ENERGY

Federal Energy Regulatory Commission

Combined Notice of Filings #1

August 19, 2010.

Take notice that the Commission received the following electric corporate filings:

Docket Numbers: EC10-85-000.

Applicants: Mystic Development, LLC, Boston Generating, LLC, Mystic I, LLC, Fore River Development, LLC, Constellation Mystic Power, LLC.

Description: Joint Application for Authorization of Disposition of Jurisdictional Facilities of Fore River Development, LLC, et al.

Filed Date: 08/18/2010.

Accession Number: 20100818-5113.

Comment Date: 5 p.m. Eastern Time on Wednesday, September 8, 2010.

Take notice that the Commission received the following electric rate filings:

Docket Numbers: ER99-1005-013; ER09-304-004.

Applicants: Kansas City Power & Light Company, KCP&L Greater Missouri Operations Company.

Description: Kansas City Power & Light Company and KCP&L Greater Missouri Operations Company Notice of Non-Material Change in Status.

Filed Date: 08/18/2010.

Accession Number: 20100818-5112.

Comment Date: 5 p.m. Eastern Time on Wednesday, September 8, 2010.

Docket Numbers: ER10-1881-001.

Applicants: Stuyvesant Energy L.L.C.

Description: Amendment to Application of Stuyvesant Energy L.L.C.

Filed Date: 08/18/2010.

Accession Number: 20100818-5111.

Comment Date: 5 p.m. Eastern Time on Wednesday, September 8, 2010.

Docket Numbers: ER10-1757-001.

Applicants: Florida Power Corporation.

Description: Florida Power Corporation submits tariff filing per 35.17(b): Florida Power Corporation Cost-Based Rate Tariff No. 1 Amendment to be effective 7/13/2010.

Filed Date: 08/19/2010.

Accession Number: 20100819-5021.

Comment Date: 5 p.m. Eastern Time on Thursday, September 9, 2010.

Docket Numbers: ER00-2529-004.

Applicants: Dow Pipeline Company.

Description: Dow Pipeline Company submits Order No 697 Compliance Filing, updated market power analysis, revisions to market-based rate tariff, and request to file out of time.

Filed Date: 08/18/2010.

Accession Number: 20100819-0203.

Comment Date: 5 p.m. Eastern Time on Monday, October 18, 2010.

Docket Numbers: ER10-2202-000.

Applicants: Central Maine Power Company.

Description: Central Maine Power Co. submits a Notice of Cancellation of Interconnection Agreement.

Filed Date: 08/12/2010.

Accession Number: 20100812-0206.

Comment Date: 5 p.m. Eastern Time on Thursday, September 2, 2010.

Docket Numbers: ER10-2204-000.

Applicants: ISO New England Inc.

Description: ISO New England Inc. submits a Capital Budget Quarterly filing for second quarter of 2010.

Filed Date: 08/12/2010.

Accession Number: 20100812-0207.

Comment Date: 5 p.m. Eastern Time on Thursday, September 2, 2010.

Docket Numbers: ER10-2280-000.

Applicants: PJM Interconnection, L.L.C.

Description: PJM Interconnection, LLC submits Schedule 1 of the Amended and Restated Operating Agreement.

Filed Date: 08/18/2010.

Accession Number: 20100819-0204.

Comment Date: 5 p.m. Eastern Time on Thursday, September 2, 2010.

Docket Numbers: ER10-2281-000.

Applicants: Constellation Mystic Power, LLC.

Description: Constellation Mystic Power, LLC submits an Application for Order Authorizing Market-Based Rates, Certain Waivers, and Blanket Authorizations.

Filed Date: 08/18/2010.

Accession Number: 20100819-0201.

Comment Date: 5 p.m. Eastern Time on Wednesday, September 8, 2010.

Docket Numbers: ER10-2282-000.

Applicants: California Independent System Operator Corporation.

Description: California Independent System Operator Corporation submits tariff filing per 35.13(a)(2)(iii: 2010-08-19 CAISO Service Agreement 1647, LGIA for SCE and Desert Sunlight to be effective 8/10/2010.

Filed Date: 08/19/2010.

Accession Number: 20100819-5084.

Comment Date: 5 p.m. Eastern Time on Thursday, September 9, 2010.

Docket Numbers: ER10-2283-000.

Applicants: Midwest Independent Transmission System Operator, Inc.

Description: Midwest Independent Transmission System Operator, Inc. submits tariff filing per 35: SECA Compliance to be effective 7/28/2010.

Filed Date: 08/19/2010.

Accession Number: 20100819-5095.

Comment Date: 5 p.m. Eastern Time on Thursday, September 9, 2010.

Take notice that the Commission received the following electric securities filings:

Docket Numbers: ES10-54-000.

Applicants: MDU Resources Group, Inc.

Description: Application of MDU Resources Group, Inc. under New Docket for authority to issue up to $1 billion worth of various securities for the next 2 years.

Filed Date: 08/19/2010.

Accession Number: 20100819-5050.

Comment Date: 5 p.m. Eastern Time on Thursday, September 9, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-21231 Filed 8-25-10; 8:45 am]

BILLING CODE 6717-01-P